DEPARTMENT OF TRANSPORTATION

Federal Aviation Administration

14 CFR Part 71

[Airspace Docket No. 00-AGL-29]

Proposed Modification of Class E Airspace; Hillsboro, ND

AGENCY: Federal Aviation Administration (FAA), DOT.

ACTION: Final rule.

SUMMARY: This action modifies Class E airspace at Hillsboro, ND. An Area Navigation (RNAV) Standard Instrument Approach Procedure (SIAP) to Runway 16, and an RNAV SIAP to Rwy 34, have been developed for Hillsboro Municipal Airport. Controlled airspace extending upward from 700 feet above the surface is needed to contain aircraft executing these approaches. This action increases the radius of the existing controlled airspace for Hillsboro, ND.

EFFECTIVE DATE: 0901 UTC, February 21, 2002.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Thursday, October 19, 2000, the FAA proposed to amend 14 CFR part 71 to modify Class E airspace at Hillsboro, ND (65 FR 26823).

The proposal was to modify controlled airspace extending upward from 700 feet above the surface to contain aircraft executing instrument approach procedures and while transiting between the enroute and terminal environments. Interested parties were invited to participate in this rulemaking proceeding by submitting written comments on the proposal to the FAA. No comments objecting to the proposal were received. Class E airspace areas extending upward from 700 feet or more above the surface of the earth are published in paragraph 6005 of FAA Order 7400.9J dated August 31, 2001, and effective September 16, 2001, which is incorporated by reference in 14 CFR 71.1. The Class E designations listed in this document would be published subsequently in the Order.

The Rule

This amendment to 14 CFR part 71 modifies Class E airspace at Hillsboro, ND, to accommodate aircraft executing instrument flight procedures into and out of Hillsboro Municipal Airport. The area will be depicted on appropriate aeronautical charts.

The FAA has determined that this proposed regulation only involves an established body of technical regulations for which frequent and routine amendments are necessary to keep them operationally current. Therefore, this regulation—(1) is not a “significant regulatory action” under Exeucitive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 7.1 of the Federal Aviation Administration Order 7400.9J, Airspace Designations and Reporting Points, dated August 31, 2001, and effective September 16, 2001, is amended as follows:

* * * * *

Paragraph 6005 Class E airspace areas extending upward from 700 feet or more above the surface of the earth.

* * * * *

AGL ND E5 Hillsboro, ND [Revised]

Hillsboro Municipal Airport, ND

(Lat. 47°21′34″ N, long. 97°03′38″ W)

That airspace extending upward from 700 feet above the surface within a 6.3-mile radius of the Hillsboro Municipal Airport, and that airspace extending upward from 1200 feet above the surface within the State of North Dakota within a 45.0-mile radius of Hillsboro Municipal Airport, excluding that airspace within the Grand Forks, ND, and Fargo, ND, Class E airspace areas, and excluding all Federal Airways.

* * * * *

Issued in Des Plaines, Illinois on December 5, 2001.
Nancy B. Shelton,
Manager, Air Traffic Division, Great Lakes Region.

[FR Doc. 02-256 Filed 1-3-02; 8:45 am]

BILLING CODE 4910-13-M